DEPARTMENT OF LABOR

Office of the Secretary

Submission for OMB Review: Comment Request

July 12, 2005

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Reinstatement, with change, of a previously approved collection.

Title: National Longitudinal Survey of Youth 1979.

OMB Number: 1220-0109.

Type of Response: Reporting.

Affected Public: Individuals or households.

Frequency: Biennially.

Instrument | Total respondents | Annual responses | Average time per response | Estimated total annual burden
NLSY79 Round 22 Pretest | 30 | 30 | 60 minutes | 30 hours
NLSY79 Round 22 Main Survey | 7,800 | 7,800 | 60 minutes | 7,800 hours
Round 22 Validation Interviews | 200 | 200 | 6 minutes | 20 hours
Mother Supplement (Mothers of children under age 15) | ¹ 1,730 | 2,200 | 20 minutes | 733 hours
Child Supplement (Children under age 15) | 2,050 | 2,050 | 31 minutes | 1,059 hours
Child Self-Administered Questionaire (Children ages 10 to 14) | 1,310 | 1,310 | 30 minutes | 655 hours
Young Adult Survey (Youths ages 15 to 20) | 2,500 | 2,500 | 45 minutes | 1,875 hours
TOTALS | 14,110 | 16,090 |  | 12,172 hours
¹ The number of respondents for the Mother Supplement (1,730) is less than the number of responses (2,200) because mothers are asked to provide separate responses for each of the biological children with whom they reside. The total number of responses for the Mother Supplement (2,200) is more than the number for the Child Supplement (2,050) because the number of children completing the Child Supplement is lower. The total number of 14,110 respondents across all the survey instruments is a mutually exclusive count that does not include: (1) The 200 re-interview respondents, who were previously counted among the 7,800 main survey respondents and (2) the 1,310 Child SAQ respondents, who were previously counted among the 2,050 Child Supplement respondents.

Total Annualized capital/startup costs: $0.

Total Annual Costs (operating/maintaining systems or purchasing services): $0.

Description: The information obtained in this survey will be used by the Department of Labor, other government agencies, academic researchers, the news media, and the general public to understand the employment experiences and life-cycle transitions of men and women born in the years 1957 to 1964 and living in the United States when the survey began in 1979.

Ira L. Mills,
Departmental Clearance Office.

[FR Doc. 05-14106 Filed 7-18-05; 8:45 am]

BILLING CODE 4510-24-P